DEPARTMENT OF THE INTERIOR

Bureau of Indian Affairs

Notice of Intent To Prepare an Environmental Impact Statement for the Torres Martinez-Calpine Power Generating Facility, Riverside County, CA

AGENCY: Bureau of Indian Affairs, Interior.

ACTION: Notice.

SUMMARY: This notice advises the public that the Bureau of Indian Affairs, with the cooperation of the Torres Martinez Desert Cahuilla Indians and Calpine Corporation, intends to gather information necessary for preparing an Environmental Impact Statement (EIS) for the proposed Torres Martinez-Calpine Power Generating Facility that Calpine would construct and operate on a 40-acre parcel within the Torres Martinez Indian Reservation, Riverside County, California. The purpose of the proposed action is to help Calpine Corporation meet the electrical power needs of southern California. Details on the project location, proposed action and initial areas of environmental concern to be addressed in the EIS follow as supplementary information. This notice also announces a public scoping meeting for the content of the EIS.

DATES: Comments on the scope and implementation of this proposal must arrive by July 14, 2000. The public scoping meeting will be held on June 28, 2000, from 7 p.m. to 10 p.m.

ADDRESSES: If you wish to comment, you may submit your comments by any one of several methods. You may mail or hand carry written comments to Ronald M. Jaeger, Regional Director, Pacific Region, Bureau of Indian Affairs, 2800 Cottage Way, Sacramento, California, 95825-1846. You may also comment via the Internet to billallan@bia.gov. Please submit Internet comments as an ASCII file, avoiding the use of special characters and any form of encryption. If you do not receive confirmation from the system that your Internet message was received, contact us directly at (916) 978-6043.

Comments, including names and home addresses of respondents, will be available for public review at the above address during regular business hours, 8 a.m. to 4 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

The public scoping meeting will be held at the Tribal Hall, Torres Martinez Indian Reservation, 66-725 Martinez Road, Thermal, California.

FOR FURTHER INFORMATION CONTACT: William Allan, (916) 978-6043, or Bobbi Fletcher, (760) 397-9850.

SUPPLEMENTARY INFORMATION: Calpine Corporation, through an agreement with the Torres Martinez Desert Cahuilla Indians, plans to construct, own and operate a 600 megawatt natural gas-fired power plant on a 40-acre parcel of tribal trust land in Riverside County, California, northeast of the town of Mecca. The parcel is located along 62nd Avenue, east of Johnson Street in proximity to the Coachella Canal.

Natural gas is proposed to be supplied to the plant by a new 10 to 12 mile gas line extending northward to a connection point north of the I-10 Freeway. Electricity produced by the plant would be routed through an on-site substation to nearby electrical transmission lines. Improvements to several miles of off-site transmission lines may also be required. Cooling water for the plant is proposed to be obtained from on-site wells. The water would be cycled, then possibly discharged for beneficial re-use at fish farms and/or vineyards on nearby Torres Martinez tribal lands.

The areas of environmental concern so far identified include air quality, biological and botanical resources, aesthetics, water resources and cultural resources. This range of issues may be expanded based on comments received during the scoping process.

This notice is published in accordance with section 1503.1 of the Council on Environmental Quality Regulations (40 CFR Parts 1500 through 1508), implementing the procedural requirements of the National Environmental Policy Act of 1969, as amended (42 U.S.C. 4321 et seq.), and the Department of the Interior Manual (516 DM 1-6), and is in the exercise of authority delegated to the Assistant Secretary—Indian Affairs by 209 DM 8.

Dated: June 5, 2000.
Kevin Gover,
Assistant Secretary—Indian Affairs.

[FR Doc. 00-14888 Filed 6-12-00; 8:45 am]

BILLING CODE 4310-02-P